FEDERAL RESERVE SYSTEM

Change in Bank Control Notices; Acquisitions of Shares of a Savings and Loan Holding Company

The notificants listed below have applied under the Change in Bank Control Act (“Act”) (12 U.S.C. 1817(j)) and of the Board's Regulation LL (12 CFR 238.31) to acquire shares of a savings and loan holding company. The factors that are considered in acting on the notices are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than May 1, 2023.

A. Federal Reserve Bank of Minneapolis (Stephanie Weber, Assistant Vice President) 90 Hennepin Avenue, Minneapolis, Minnesota 55480-0291; or by email to MA@mpls.frb.org:

1. The American Federal Bank and Affiliates Employee Stock Ownership Plan (ESOP) and the American Federal Bank Restricted Stock Plan and Trust (RSP), both of Fargo, North Dakota; Dean P. McCleary, Moorhead, Minnesota; Bryan J. Larson, Barnesville, Minnesota; Matthew J. Heinzen, and Steven P. Worwa, both of Fargo, North Dakota; all individually and as co-trustees of the ESOP and RSP, as a group acting in concert to retain voting shares of American Federal Corporation and thereby indirectly retain voting shares of American Federal Bank, both of Fargo, North Dakota.

Board of Governors of the Federal Reserve System.
Michele Taylor Fennell,
Deputy Associate Secretary of the Board.

[FR Doc. 2023-07941 Filed 4-14-23; 8:45 am]

BILLING CODE P